DEPARTMENT OF EDUCATION

[CFDA No.: 84.341]

Community Technology Centers Program

AGENCY: Office of Vocational and Adult Education, U.S. Department of Education.

ACTION: Notice of final priorities, program requirements, and selection criteria for Fiscal Year (FY) 2003.

SUMMARY: The Assistant Secretary for Vocational and Adult Education has established priorities, selection criteria, and program requirements under the Community Technology Centers (CTC) program. The Assistant Secretary will use these priorities, selection criteria, and program requirements for competitions in FY 2003. The Department takes this action to target Federal resources on improving the academic achievement of low-achieving students enrolled in, or entering, grades 9 through 12 at low-performing secondary schools. The Department intends the priorities, selection criteria, and program requirements to support the goal of the Elementary and Secondary Education Act of 1965 (ESEA), as amended by the No Child Left Behind Act of 2001 (NCLB), that all students will attain, at a minimum, proficiency on challenging State academic achievement standards and State academic assessments, particularly in the core academic subjects of reading or language arts, and mathematics.

EFFECTIVE DATE: These priorities, program requirements, and selection criteria are effective May 30, 2003.

FOR FURTHER INFORMATION CONTACT: If you have questions pertaining to the application, need further assistance, or need to speak with someone in the CTC program, you may contact Gisela Harkin, Office of Vocational and Adult Education, U.S. Department of Education, 400 Maryland Avenue, SW., Mary E. Switzer Building, Room 4324, Washington, DC 20202 7100, Telephone: (202) 205-4238 or via e-mail: commtech.center@ed.gov. Please type “CTC Notice Correspondence” as the subject line of your electronic message.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

Note: This notice does not solicit applications. A notice inviting applications under this competition is published elsewhere in this issue of the Federal Register. The notice inviting applications specifies the deadline date by which applications for an award must be received or hand-delivered to the Department if a waiver to the electronic submission requirement is granted.

SUPPLEMENTARY INFORMATION:

General

As authorized by Title V, Part D, Subpart 11, Section 5511-13 of the Elementary and Secondary Education Act of 1965 (ESEA), as amended by the No Child Left Behind Act (NCLB) of 2001, the purpose of the CTC Program is to assist eligible applicants to create or expand community technology centers that will provide disadvantaged residents of economically distressed urban and rural communities with access to information technology and related training. Eligible applicants are community-based organizations (including faith-based organizations), State and local educational agencies, institutions of higher education, and other entities such as foundations, libraries, museums, public and private nonprofit organizations, and for-profit businesses, or consortia thereof. To be eligible, an applicant must also have the capacity to significantly expand access to computers and related services for disadvantaged residents of economically distressed urban and rural communities who would otherwise be denied such access.

The focus of the CTC program competition has changed to give absolute priority to those applicants who will focus on improving the academic achievement of low-achieving high school students while continuing to provide a community technology center for all members of their community. Thus, grant recipients must meet this priority as they use grant funds to create or expand community technology centers that expand access to information technology and related training for disadvantaged residents of distressed urban or rural communities and to evaluate the effectiveness of their projects. Funds may be used to provide services and activities that use technology to improve academic achievement, such as academic enrichment activities for children and youth, career development, adult education, and English language instruction for individuals with limited English proficiency. Other authorized activities include, among other things, support for personnel, equipment, networking capabilities, and other infrastructure costs. No funds may be used for construction.

Improving the academic achievement of our nation's secondary school students has become an urgent need. Current National Assessment of Educational Progress (NAEP) data indicate that, despite some slow and steady progress in secondary student achievement over the past few decades, many of our nation's secondary students are still not attaining the academic skills and knowledge required for graduation, postsecondary education, or careers. This is particularly true among students who are entering secondary school, with two in ten scoring below basic levels in reading, over three in ten scoring below basic levels in math, and four in ten scoring below basic levels in science. Moreover, as students move through secondary school, their academic progress wanes. Except in the area of science, students actually make greater academic gains between grades 4 and 8 than between grades 8 and 12.

To support the goal of the NCLB that all students attain proficiency in challenging State academic achievement standards, the Assistant Secretary has established priorities, selection criteria, and program requirements for the CTC program that will focus program resources on providing effective supplemental instruction to low-achieving students who are entering or enrolled in grades 9 through 12 at high-poverty, low-performing secondary schools.

Application Procedures

The Government Paperwork Elimination Act (GPEA) of 1998 (Public Law 105-277) and the Federal Financial Assistance Management Improvement Act of 1999 (Public Law 106-107) encourage us to undertake initiatives to improve our grant processes. Enhancing the ability of individuals and entities to conduct business with us electronically is a major part of our response to these Acts. Therefore, the Department is taking steps to adopt the Internet as our chief means of conducting transactions in order to improve services to our customers and to simplify and expedite our processes.

The Department is requiring that applications for the FY 2003 Community Technology Centers program competition be submitted electronically using e-Application through the U.S. Department of Education's e-GRANTS system. The e-GRANTS system is accessible through its portal page at http://e-grants.ed.gov.

Applicants who are unable to submit an application through the e-GRANTS systems may apply for a waiver to the electronic submission requirement. To apply for a waiver, applicants must explain the reason(s) that prevent(s) them from using the Internet to submit their applications. The reason(s) must be outlined in a letter addressed to: Gisela Harkin, U.S. Department of Education, Office of Vocational and Adult Education, 330 “C” Street, S.W., Washington, D.C., 20202-7100. Please mark your envelope “CTC competition waiver request.” The letter requesting the waiver is to be submitted no later than two (2) weeks before the deadline for transmittal of applications; last minute requests will not be considered.

Any application that receives a waiver to the electronic submission requirement will be given the same consideration in the review process as an electronic application.

Pilot Project for Electronic Submission of Applications

In FY 2003, the U.S. Department of Education is continuing to expand its pilot project of electronic submission of applications to include additional formula programs and additional discretionary grant competitions. The Community Technology Centers (CTC) program (CFDA 84.341) is one of the programs included in the pilot project. If you are an applicant under the CTC Program, you must submit your application to us in electronic format or receive a waiver.

The pilot project involves the use of the Electronic Grant Application System (e-Application, formerly e-GAPS) portion of the Grant Administration and Payment System (GAPS). We shall continue to evaluate its success and solicit suggestions for improvement.

Please note the following:

—Do not wait until the deadline date for the transmittal of applications to submit your application electronically. If you wait until the deadline date to submit your application electronically and you are unable to access the e-Application system, you must contact the Help Desk by 4:30 p.m. EST on the deadline date.

—Keep in mind that e-Applications is not operational 24 hours a day, 7 days a week. Click on “Hours of Web Site Operation” for specific hours of access during the week.

—You will have access to the e-Application Help Desk for technical support: 1(888)336-8930 (TTY: 1[866]697-2696, local [202]401-8363). The Help Desk hours of operation are limited to 8 a.m.-6 p.m. EST Monday through Friday.

You must submit all documents electronically, including the Application for Federal Education Assistance (ED424), Budget Information—Non-Construction Programs (ED524), and assurances, certifications, and appendices, as appropriate.

—After you electronically submit your application, you will receive an acknowledgement, which will include a PR/Award number (an identifying number unique to your application).

—Within three (3) working days after submitting your electronic application, fax a signed copy of the Application for Federal Education Assistance (ED424) to the Application Control Center after following these steps:

(1) Print the ED424 from the e-Application system.

(2) The institution's Authorizing Representative must sign this form.

(3) Place the PR/Award number in the upper right hand corner of the hard copy signature page of the ED424.

(4) Fax the signed ED424 to the Application Control Center at (202) 260-1349.

—The Department may request that you give us original signatures on all other forms at a later date.

Closing Date Extension in Case of System Unavailability

If you are prevented from submitting your application on the closing date because the e-Application system is unavailable, we will grant you an extension of one (1) business day in order to transmit your application electronically, by mail, or by hand delivery.

For us to grant this extension:

(1) You must be a registered user of e-Application and have initiated an e-Application for this competition; and (2)(A) The e-Application system must be unavailable for 60 minutes or more between the hours of 8:30 a.m. and 3:30 p.m. EST, on the deadline date; or (B) The e-APPLICATION system must be unavailable for any period of time during the last hours of operation (that is, for any period of time between 3:30 and 4:30 p.m. EST) on the deadline date. The Department must acknowledge and confirm these periods of unavailability before granting you an extension. To request this extension, you must contact the e-Grants Help Desk at 1(888) 336-8930.

You may access the electronic grant application for CFDA No. 84.341 at http://e-grants.ed.gov.

Page Limit: The application narrative (Part VI of the application) is where you, the applicant, address the selection criteria that reviewers use to evaluate your application. You must limit Part VI to the equivalent of no more than 25 pages, using the following standards:

• A “page” is 8.5″ x 11″ on one side only, with 1” margins on the top, bottom, and both sides.

• Double space (no more than three lines per vertical inch) all text in the application narrative, including titles, headings, footnotes, quotations, references, and captions, as well as all text in charts, tables, figures, and graphs.

• Use a font that is either 12-point or larger or no smaller than 10 pitch (characters per inch).

In addition, you must limit Part VII (budget narrative) to four (4) pages and Part X (Appendices) to 15 pages, using the aforementioned standards. We will reject your application if:

• You apply these standards and exceed the page limit; or

• You apply other standards and exceed the equivalent of the page limit.

Scoring of Applications

Applications received under this notice will be screened for eligibility and scored according to the criteria that follow in this notice. Each application under this competition must meet Absolute Priority 1 and Absolute Priority 2 in order to be eligible for funding. An application that does not meet both priorities will not be evaluated and scored under the selection criteria, which are the same for both competitions. Once eligibility is established, each application may earn up to 100 points under the selection criteria. In addition, each application may earn up to an additional five (5) points for satisfying the competitive preference priority. The highest possible score is 105 points.

Waiver of Rulemaking

It is the Secretary's practice, in accordance with the Administrative Procedure Act (5 U.S.C. 553), to offer interested parties the opportunity to comment on proposed rules that are not taken directly from statute. Ordinarily, this practice would have applied to the priorities and requirements of this notice. However, section 437(d)(2) of the General Education Provisions Act (GEPA) exempts from this requirement rules that would cause extreme hardship to the intended beneficiaries of the program that would be affected by those rules. In accordance with section 437(d)(2) of GEPA, the Secretary has decided to forgo public comment with respect to the rules in this grant competition in order to ensure timely and high-quality awards. The rules established in this notice apply only to the FY 2003 grant competition.

Discussion of Priorities

When inviting applications, we designate each priority as absolute or competitive preference. The effect of each type of priority follows:

Absolute priority: Under an absolute priority, we consider only applications that meet the priority (34 CFR 75.105(c)(3)).

Competitive preference priority: Under a competitive preference priority, we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Priorities: Applicants must meet both Absolute Priority 1 and Absolute Priority 2 to be considered for funding under this notice. Eligible applicants may be either State or local entities.

Absolute Priority 1: Each application must be submitted by an eligible applicant. In addition, each proposed project must include a partnership with a community-based organization and a local educational agency (or school). The application must clearly identify the partnering agencies and must include a detailed plan of their working relationship. Thus, under 34 CFR 75.105(c)(3), the Secretary gives an absolute priority to projects in which the delivery of instructional services includes:

1. a Community-Based Organization (CBO), which may include a faith-based organization, and

2. a Local Educational Agency (LEA) (or school, including private, non-profit schools).

A CBO is not required to submit a joint application with an LEA or school when applying for funds; however, the proposed project must deliver the educational services in partnership with an LEA (or school).

Likewise, an LEA is not required to submit a joint application with a CBO when applying for funds; however, the proposed project must deliver the educational services in partnership with a CBO.

Applicants who are neither CBOs nor LEAs must enter into a partnership that includes a CBO and an LEA (or school) in the delivery of educational services.

The Secretary has determined that the participation of both CBOs and LEAs (or schools) is critical to the success of the projects that will be funded in this competition. Many academic support programs for adolescents report that securing and maintaining a high level of student participation can be challenging. Involving CBOs in service delivery will help projects better master this challenge, such as by providing expanded outreach and support to students, joint programming, or alternative service sites that are in or near the neighborhoods where students live. Community-based and faith-based partners bring other important resources to the table as well, such as assistance in recruiting staff and volunteers. LEAs (or schools) are essential partners as well. Their involvement is needed to identify the students who are most in need of academic support and to ensure that the project's curriculum, assessment, and instructional practices are consistent with those of the schools the students attend.

Applications that do not show evidence of a partnership with a CBO and an LEA (or school) will be ineligible for funding.

Note: Applicants should bear in mind that LEAs are eligible applicants, but individual schools are not eligible applicants.

Absolute Priority 2: Under 34 CFR 75.105(c)(3), the Secretary gives an absolute priority to projects that meet the following criteria:

Applicants in this program must state whether they are proposing a local or State project. A local project must include one or more CTCs; a State project must include two or more CTCs. In addition, the project must be carried out by or in partnership with one or more LEAs or secondary schools that provide supplementary instruction in the core academic subjects of reading or language arts, or mathematics, to low-achieving secondary school students. Projects must serve students who are entering or enrolled in grades 9 through 12 and who have academic skills significantly below grade level, or who have not attained proficiency on State academic assessments as established by NCLB. Supplementary instruction may be delivered before or after school or at other times when school is not in session. Instruction may also be provided while school is in session, provided that it increases the amount of time students receive instruction in core academic subjects and does not require their removal from regular academic classes. The instructional strategies used must be based on practices that have proven effective for improving the academic performance of low-achieving students. If these services are not provided directly by an LEA, they must be provided in partnership with an LEA or secondary school.

Competitive Preference Priority—Low-Performing Secondary Schools

In addition to the points to be awarded under the selection criteria, the Secretary awards up to five (5) additional points to projects that serve students in secondary schools that have not met adequate yearly progress for two (2) or more consecutive years.

Selection Criteria

The following selection criteria will be used to evaluate applications submitted for grants. Please note:

(1) The maximum score is 105 points. Up to 100 points will be awarded in response to the selection criteria listed below. A maximum of 5 additional points may be awarded to those applicants that respond to the competitive preference priority described earlier in the notice.

(2) The maximum score for each criterion is indicated in parentheses.

(a) Need for the Project (10 points):

In evaluating the need for the proposed project, we consider the extent to which the proposed project will:

(1) Serve students from low-income families;

(2) Serve students entering or enrolled in secondary schools that are among the secondary schools in the State that have the highest numbers or percentages of students who have not achieved proficiency on the State academic assessments required by Title I of ESEA, or who have academic skills in reading or language arts, or mathematics, that are significantly below grade level;

(3) Serve students who have the greatest need for supplementary instruction, as indicated by their scores on State or local standardized assessments in reading or language arts, or mathematics, or some other local measure of performance in reading or language arts, or mathematics; and

(4) Create or expand access to information technology and related training for disadvantaged residents of distressed urban or rural communities.

(b) Quality of the Project Design (35 points):

In evaluating the quality of the proposed project, we consider the extent to which the proposed project will:

(1) Provide instructional services that will be of sufficient size, scope, and intensity to improve the academic performance of participating students;

(2) Incorporate strategies that have proven effective for improving the academic performance of low-achieving students;

(3) Implement strategies in recruiting and retaining students that are likely to prove effective;

(4) Provide instruction that is aligned with the secondary school curricula of the schools in which the students to be served by the grant are entering or enrolled, and supports the efforts of the State or LEA to improve the academic achievement of these students; and

(5) Provide high-quality, sustained, and intensive professional development for personnel who provide instruction to students.

(c) Quality of the Management Plan (15 points):

In evaluating the quality of the management plan, we consider the extent to which the proposed project:

(1) Outlines specific, measurable goals, objectives, and outcomes to be achieved by the proposed project;

(2) Assigns responsibility for the accomplishment of project tasks to specific project personnel, and provides timelines for the accomplishment of project tasks;

(3) Requires appropriate and adequate time commitments of the project director and other key personnel to achieve the objectives of the proposed project; and

(4) Includes key project personnel, including the project director, teachers, counselors, and administrators, with appropriate qualifications and relevant training and experience.

(d) Adequacy of Resources (20 points):

In determining the adequacy of resources for the proposed project, we consider the following factors:

(1) The adequacy of support, including facilities, equipment, supplies, and other resources, from the applicant;

(2) The extent to which a preponderance of project resources will be used for activities designed to improve the academic performance of low-achieving students in reading or language arts, and/or mathematics;

(3) The extent to which the budget is adequate and costs are reasonable in relation to the objectives and design of the proposed project; and

(4) The potential for continued support of the project after Federal funding ends, including, as appropriate, the demonstrated commitment of appropriate entities to such support.

(e) Quality of the Evaluation (20 points):

In determining the quality of the evaluation, we consider the extent to which the proposed project:

(1) Includes a plan that utilizes evaluation methods that are feasible and appropriate to the goals and outcomes of the project;

(2) Will regularly examine the progress and outcomes of participating students on a range of appropriate performance measures, including their performance on State or local standardized academic assessments;

(3) Will use an independent, external evaluator with the necessary background and technical expertise to assess the performance of the project; and

(4) Effectively demonstrates that the applicant has adopted a rigorous evaluation design.

Program Requirements

Project Period: 12 months.

Range of Awards: $300,000-$500,000. Applicants who request more than $500,000 will be ineligible for funding.

Matching Requirement: Pursuant to Section 5512(c) of ESEA, as amended by NCLB, Federal funds may not pay for more than 50 percent of total project costs. In order to apply for and receive a grant award under this competition, each applicant must furnish from nonfederal sources at least 50 percent of its total project costs. Applicants may satisfy this requirement in cash or in kind, fairly evaluated, including services.

Reporting Requirements: In accordance with Education Department General Administrative Regulations (EDGAR) cited elsewhere in this notice, grantees are required to submit to the Secretary a final performance report that:

(1) Summarizes project progress with respect to the specific, measurable goals, objectives, and outcomes proposed in the management plan;

(2) Summarizes project impact with respect to the achievement of participants, as measured by standardized State or local assessments;

(3) Identifies barriers to progress as well as solutions; and

(4) Provides information about the project's success in identifying funding to sustain its operations after the cessation of the grant.

Intergovernmental Review

This program is subject to Executive Order 12372 and the regulations in 34 CFR part 79. One of the objectives of the Executive Order is to foster an intergovernmental partnership and a strengthened Federalism. The Executive order relies on processes developed by State and local governments for coordination and review of proposed Federal financial assistance.

Applicable Program Regulations: 34 CFR parts 75, 77, 79, 80, 81, 82, 85, 86, 97, 98 and 99.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

CFDA No. 84.341 Community Technology Centers Program

Program Authority: 20 U.S.C. 7263-7263b.

Dated: May 29, 2003.
Carol D'Amico,
Assistant Secretary for Vocational and Adult Education.

[FR Doc. 03-13834 Filed 6-2-03; 8:45 am]

BILLING CODE 4000-01-P